DEPARTMENT OF HEALTH AND HUMAN SERVICES

National Institutes of Health

National Institute of Biomedical Imaging and Bioengineering; Notice of Proposed Reorganization

AGENCY: National Institutes of Health, HHS.

ACTION: Notice.

SUMMARY: The National Institute of Biomedical Imaging and Bioengineering (NIBIB) will host a public online forum to enable public discussion of the Institute's proposal to establish the Section on Mechanics and Tissue Remodeling Integrating Computational & Experimental Systems (MATRICES). The proposed reorganization will more accurately reflect the current structure by which the Intramural Research Program is functioning and improve the coordination of the scientific activities within the Institute. The online forum will allow members of the public to review the reorganization proposal and submit comments.

DATES: The public hearing will take place on July 6, 2023, at 2 p.m. using NIBIB's social media accounts. Any interested party may also file written comments by sending an email to NIBIBorgchange@nih.gov prior or during the scheduled public hearing. The statement should include the individual's name, and when applicable, professional affiliation.

ADDRESSES: The following email address has been established for comments on the reorganization: NIBIBorgchange@nih.gov. The social media platforms that will be used and monitored during this hearing are:

• Twitter: @NIBIBgov.

• Facebook: https://www.facebook.com/nibibgov/.

FOR FURTHER INFORMATION CONTACT: Frank Flannery, Management Analyst, National Institute of Biomedical Imaging and Bioengineering, NIH, (301) 451-0713, NIBIBorgchange@nih.gov.

SUPPLEMENTARY INFORMATION: Pursuant to the NIH Reform Act of 2006 (42 U.S.C. 281(d)(4)), NIBIB will have a public hearing to discuss the proposed reorganization plans. This announcement and the public forum serve as that notice. More information can be found at https://www.nibib.nih.gov/about-nibib/proposed-org-changes.

Ann G. Gawalt,
Acting Executive Officer, National Institute of Biomedical Imaging and Biomedical Engineering, National Institutes of Health.

[FR Doc. 2023-13099 Filed 6-20-23; 8:45 am]

BILLING CODE 4140-01-P